DEPARTMENT OF TRANSPORTATION

Federal Aviation Administration

14 CFR Part 71

[Docket No. FAA-2010-0660; Airspace Docket No. 10-ANM-4]

Revocation and Establishment of Class E Airspace; St. George, UT

AGENCY: Federal Aviation Administration (FAA), DOT.

ACTION: Final rule.

SUMMARY: This action will remove Class E airspace at St. George, UT, as the airport will be closing, eliminating the need for controlled airspace. This action will establish Class E airspace for the new St. George Municipal Airport located to the south of the original airport. Controlled airspace is necessary to accommodate aircraft using a new Area Navigation (RNAV) Global Positioning System (GPS), VHF Omni-Directional Radio Range/Distance Measuring Equipment (VOR/DME), Localizer Type Directional Aid/Distance Measuring Equipment (LDA/DME) Standard Instrument Approach Procedures (SIAPs) at the new airport. This will improve the safety and management of Instrument Flight Rules (IFR) operations at the airport.

DATES: Effective date, 0901 UTC, January 13, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On July 29, 2010, the FAA published in the Federal Register a notice of proposed rulemaking to remove and establish controlled airspace at St. George Municipal Airport, St. George, UT (75 FR 44727). Interested parties were invited to participate in this rulemaking effort by submitting written comments on the proposal to the FAA. No comments were received.

Subsequent to publication, the FAA found the controlled airspace area extending upward from 700 feet AGL was more than was needed for the SIAP, and modified portions for the VOR/DME SIAP by reducing the amount of airspace originally stated, thus better serving the aviation needs at the new airport. This action will make the changes. With the exception of editorial changes, and the changes described above, this rule is the same as that proposed in the NPRM.

Class E airspace designations are published in paragraph 6002 and 6005, respectively, of FAA Order 7400.9U dated August 18, 2010, and effective September 15, 2010, which is incorporated by reference in 14 CFR 71.1. The Class E airspace designations listed in this document will be published subsequently in that Order.

The Rule

This action amends Title 14 Code of Federal Regulations (14 CFR) part 71 by removing Class E surface airspace, and Class E airspace extending upward from 700 feet above the surface, at St. George Municipal Airport, St. George, UT, as the airport is closing and relocating south of the existing airport. This action will establish Class E surface airspace and Class E airspace extending upward from 700 feet above the surface at the new St. George Municipal Airport location to accommodate IFR aircraft executing new RNAV (GPS), VOR/DME and LDA/DME SIAPs at the airport. The description for the airport's Class E airspace extending upward from 700 feet above the surface will correctly show the airspace needed for the VOR/DME SIAP. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, section 106 discusses the authority of the FAA Administrator. Subtitle VII, Aviation Programs, describes in more detail the scope of the agency's authority. This rulemaking is promulgated under the authority described in subtitle VII, part A, subpart I, section 40103. Under that section, the FAA is charged with prescribing regulations to assign the use of airspace necessary to ensure the safety of aircraft and the efficient use of airspace. This regulation is within the scope of that authority as it amends controlled airspace at St. George Municipal Airport, St. George, UT.

List of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010 is amended as follows:

Paragraph 6002 Class E airspace designated as surface areas.

* * * * *

ANM UT E2 St. George, UT [Removed]

Paragraph 6005 Class E airspace areas extending upward from 700 feet or more above the surface of the earth.

* * * * *

ANM UT E5 St. George, UT [Removed]

Paragraph 6002 Class E airspace designated as surface areas.

* * * * *

ANM UT E2 St. George, UT [New]

St. George Municipal Airport, UT

(Lat. 37°02′11″ N., long. 113°30′37″ W.)

Within a 4.5-mile radius of St. George Municipal Airport. This Class E airspace is effective during specific dates and times established in advance by a Notice to Airmen. The effective date and time will thereafter be continuously published in the Airport/Facility Directory.

Paragraph 6005 Class E airspace areas extending upward from 700 feet or more above the surface of the earth

* * * * *

ANM UT E5 St. George, UT [New]

St. George Municipal Airport, UT

(Lat. 37°02′11″ N., long. 113°30′37″ W.)

That airspace extending upward from 700 feet above the surface within a 8.1-mile radius of the St. George Municipal Airport, and within 4 miles each side of the 030° bearing of St. George Municipal Airport, extending from the 8.1-mile radius to 25.8 miles northeast of the St. George Municipal Airport, and within 4 miles each side of the 200° bearing of the St. George Municipal Airport, extending from the 8.1-mile radius to 20 miles southwest of the St. George Municipal Airport; and that airspace extending upward from 1,200 feet above the surface within the 30-mile radius of lat. 36°48′52″ N., long. 113°29′24″ W., extending clockwise from the 030° bearing to the 360° bearing, thence from the 360° bearing 30-mile radius to lat. 37°31′02″ N., long. 113°21′25″ W., to lat. 37°23′09″ N., long. 113°04′34″ W., thence to the 030° bearing 30-mile radius.

Issued in Seattle, Washington, on October 1, 2010.
John Warner,
Manager, Operations Support Group, Western Service Center.

[FR Doc. 2010-25482 Filed 10-8-10; 8:45 am]

BILLING CODE 4910-13-P